DEPARTMENT OF THE INTERIOR

National Park Service

Decision Notice and Finding of No Significant Impact (FONSI) for the Proposal To Rehabilitate the Yellow Barn and Chautauqua Tower at Glen Echo Park in Glen Echo, MD

AGENCY: National Park Service, Interior.

ACTION: Availability of the decision notice and FONSI for the proposal to rehabilitate the Yellow Barn and Chautauqua Tower at Glen Echo Park in Glen Echo, Maryland.

SUMMARY: Pursuant to Council on Environmental Quality regulations and National Park Service policy, the National Park Service (NPS) announces the availability of the Decision Notice and FONSI for the Rehabilitation of the Yellow Barn and Chautauqua Tower at Glen Echo Park, a unit of the George Washington Memorial Parkway (GWMP). The Decision Notice and FONSI identifies Alternative C as selected by the NPS for action. It is the preferred and environmentally preferred alternative in the Environmental Assessment. Under this alternative, most of the existing Yellow Barn structure located in Glen Echo Park, Glen Echo, Maryland would be demolished, (an exterior stone wall from the Chautauqua era would be retained), and a new structure built in the same location. The Chautauqua Tower, including stairs, will be stabilized and rehabilitated. This project will provide and maximize useful, efficient program space; address and correct Life and Safety Code deficiencies, as well as address and correct accessibility deficiencies.

DATES: The Environmental Assessment, upon which the decision and FONSI were made, was available for public comment from December 2003—January 2004. There were no public comments received.

ADDRESSES: The Decision Notice and FONSI will be available for public inspection Monday through Friday, 8 a.m. through 4 p.m. at the GWMP Headquarters, Turkey Run Park, McLean, Virginia. The FONSI can also be viewed on the GWMP Web site at http://www.nps.gov/gwmp.

SUPPLEMENTARY INFORMATION: The Decision Notice and FONSI completes the Environmental Assessment process.

FOR FURTHER INFORMATION CONTACT: Ms. Sarah Koenen (703) 289-2540.

Dated: September 3, 2004.
Jon James,
Deputy Superintendent, George Washington Memorial Parkway.

[FR Doc. 04-20644 Filed 9-13-04; 8:45 am]

BILLING CODE 4312-52-P